DEPARTMENT OF HEALTH AND HUMAN SERVICES

Centers for Medicare & Medicaid Services

[Document Identifier: CMS-10398]

Agency Information Collection Activities: Proposed Collection; Comment Request; Withdrawal

AGENCY: Centers for Medicare & Medicaid Services, Health and Human Services (HHS).

ACTION: Notice; withdrawal.

On February 26, 2021, the Centers for Medicare & Medicaid Services (CMS) published a 30-day notice (86 FR 11779) entitled, “Agency Information Collection Activities: Submission for OMB Review; Comment Request.” That notice invited public comments on the following information collection request: Title: Generic Clearance for Medicaid and CHIP State Plan, Waiver, and Program Submissions; Form Number: CMS-10398; and OMB Control Number: 0938-1148. Through the publication of this document we are withdrawing that notice (FR document: 2021-04052) in its entirety. Before the end of March 2021, we intend to publish a notice that sets out our revised process for making CMS-10398-specific generic information collections (also known as “GenICs”) available for public review and comment.

Dated: March 4, 2021.
William N. Parham, III,
Director, Paperwork Reduction Staff, Office of Strategic Operations and Regulatory Affairs.

[FR Doc. 2021-04885 Filed 3-8-21; 8:45 am]

BILLING CODE 4120-01-P